DEPARTMENT OF LABOR

Office of the Secretary

Submission for OMB Emergency Review; Comment Request

March 21, 2005.

The Department of Labor has submitted the following information collection request (ICR), utilizing emergency review procedures, to the Office of Management and Budget (OMB) for review and clearance in accordance with the Paperwork Reduction Act of 1995 (Pub. L. 104-13, 44 U.S.C. Chapter 35). OMB approval is being requested by April 14, 2005. A copy of this ICR, with applicable supporting documentation, may be obtained by calling the Department of Labor Departmental Clearance Officer, Ira L. Mills (202) 693-4122.

Comments and questions about the ICR listed below should be forwarded to the Office of Information and Regulatory Affairs, Attn: OMB Desk Officer for the Employment and Training Administration, Room 10235, Washington, DC 20503. The Office of Management and Budget is particularly interested in comments which:

• Evaluate whether the proposed collection of information is necessary for the proper performance of the functions of the agency, including whether the information will have practical utility;

• Evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submissions of responses.

Agency: Employment and Training Administration.

Type of Review: Emergency.

Title: Trade Act Participant Report.

OMB Number: 1205-0392.

Frequency: Quarterly.

Affected Public: State, Local, or Tribal Government.

TAA burden | Annual national participants | Hours per TAPR record | Annual TAPR burden hours | Applicable hourly rate | Annual TAPR burden dollars
Data Collection | 30,000 | 0.3 | 9,000 | $32.50 | $292,500
TAPR Submission | 50 | 2.5 | 500 | 32.50 | 16,250
|  |  |  |  | $308,750

Total Burden: 9,500 hours.

Total Burden Cost (capital/startup): $ 0.

Total Burden Cost (operating/maintaining): $ 308,750.

Description: On June 16, 1998, OMB approved a Government Performance and Results Act (GPRA) compliant performance and participant outcomes data collection system for the Trade Adjustment Assistance (TAA) program. This system was revised in 2000 and is now known as the Trade Act Participant Report (TAPR). States implemented the TAPR beginning with the first quarter of fiscal year 1999 (October through December, 1998), and have continued to collect and report data every quarter since then. The current TAPR reporting requirements will expire in November 2005.

This is a request to revise the current TAA program reporting requirements to reflect expanded program and services implemented under the Trade Act of 2002 and include data elements necessary for assessing state progress against common measures of performance beginning October 1, 2005. In 2002, under the President's Management Agenda, OMB and other Federal agencies developed a set of common performance measures to be applied to certain Federally-funded employment and training programs with similar strategic goals. Although the common measures are an integral part of ETA's performance accountability system, these measures provide only part of the information necessary to effectively oversee the workforce investment system. ETA will continue to collect from states and grantees data on program activities, participants, and outcomes that are necessary for program management and to convey full and accurate information on the performance of workforce programs to policymakers and stakeholders.

The value of implementing common measures is the ability to describe in a similar manner the core purposes of the workforce system—how many people found jobs; did people stay employed; and did earnings increase. Multiple sets of performance measures have burdened states and grantees as they are required to report performance outcomes based on varying definitions and methodologies. By minimizing the different reporting and performance requirements, common performance measures can facilitate the integration of service delivery, reduce barriers to cooperation among programs, and enhance the ability to assess the effectiveness and impact of the workforce investment system, including the performance of the system in serving individuals facing significant barriers to employment.

This revision to the TAA program reporting system identifies a minimum level of information collection that is necessary to comply with Equal Opportunity requirements, holds states appropriately accountable for the Federal funds they receive, including common performance measures, and allows the Department to fulfill its oversight and management responsibilities.

Ira L. Mills,
Departmental Clearance Officer.

[FR Doc. 05-6117 Filed 3-28-05; 8:45 am]

BILLING CODE 4510-30-P